SMALL BUSINESS ADMINISTRATION

[Declaration of Disaster #3526]

State of Indiana

As a result of the President's major disaster declaration on July 11, 2003, and subsequent amendment also on July 11, I find that Adams, Allen, Benton, Blackford, Boone, Carroll, Cass, Clinton, Delaware, Fountain, Grant, Hamilton, Hancock, Henry, Howard, Huntington, Jasper, Jay, Kosciusko, Madison, Marion, Miami, Montgomery, Noble, Pulaski, Randolph, Tippecanoe, Tipton, Wabash, Warren, Wayne, Wells, White, and Whitley Counties in the State of Indiana constitute a disaster area due to damages caused by severe storms, tornadoes, and flooding occurring on July 4, 2003 and continuing. Applications for loans for physical damage as a result of this disaster may be filed until the close of business on September 9, 2003 and for economic injury until the close of business on April 12, 2004 at the address listed below or other locally announced locations:

U.S. Small Business Administration, Disaster Area 2 Office, One Baltimore Place, Suite 300, Atlanta, GA 30308.

In addition, applications for economic injury loans from small businesses located in the following contiguous counties may be filed until the specified date at the above location: DeKalb, Elkhart, Fayette, Fulton, Hendricks, Johnson, LaGrange, Lake, LaPorte, Marshall, Morgan, Newton, Parke, Porter, Putnam, Rush, Shelby, Starke, Steuben, Union, and Vermillion in the State of Indiana; Iroquois and Vermilion Counties in the State of Illinois; Darke, Defiance, Mercer, Paulding, Preble, and Van Wert Counties in the State of Ohio.

The interest rates are:

| Percent
For Physical Damage:
Homeowners with credit available elsewhere | 5.625
Homeowners without credit available elsewhere | 2.812
Businesses with credit available elsewhere | 5.906
Businesses and non-profit organizations without credit available elsewhere | 2.953
Others (including non-profit organizations) with credit available elsewhere | 5.500
For Economic Injury:
Businesses and small agricultural cooperatives without credit available elsewhere | 2.953

The number assigned to this disaster for physical damage is 352611. For economic injury, the numbers are 9W2900 for Indiana; 9W3000 for Illinois; and 9W3100 for Ohio.

(Catalog of Federal Domestic Assistance Program Nos. 59002 and 59008)
Dated: July 14, 2003.
Herbert L. Mitchell,
Associate Administrator for Disaster Assistance.

[FR Doc. 03-18328 Filed 7-17-03; 8:45 am]

BILLING CODE 8025-01-P